DEPARTMENT OF THE INTERIOR

Fish and Wildlife Service

Marine Mammal Annual Report Availability, Calendar Years 1997 and 1998

AGENCY: Fish and Wildlife Service, Interior.

ACTION: Notice of availability of marine mammal annual reports for calendar years 1997 and 1998.

SUMMARY: We, the U.S. Fish and Wildlife Service and the Biological Resources Division of the U.S. Geological Survey, have issued our 1997 and 1998 annual reports on marine mammals under the jurisdiction of the U.S. Department of the Interior, as required by section 103(f) of the Marine Mammal Protection Act of 1972. Our reports are for January 1 to December 31, 1997, and January 1 to December 31, 1998. We submitted the reports to Congress on May 2, 2001. By this notice, we are informing you, the public, that the reports are available and that copies may be obtained on request to the U.S. Fish and Wildlife Service.

ADDRESSES: You should submit written requests for copies to: Publications Unit, U.S. Fish and Wildlife Service, National Conservation Training Center, Route 1, Box 1666, Shepherd Grade Road, Shepherdstown, WV 25443. You may also contact that office by telephone at (304) 876-7203.

FOR FURTHER INFORMATION CONTACT: Jeffrey L. Horwath, Division of Fish and Wildlife Management Assistance in Arlington, Virginia at telephone (703) 358-1718.

SUPPLEMENTARY INFORMATION: The U.S. Department of the Interior is responsible for eight species of marine mammals, as assigned by the Marine Mammal Protection Act of 1972. These species are polar bear, sea and marine otters, walrus, three species of manatee, and dugong. Administrative actions discussed in our two reports include appropriations, marine mammals in Alaska, endangered and threatened marine mammal species, law enforcement activities, scientific research and public display permits, certificates of registration, research, Outer Continental Shelf environmental studies and international activities.

Dated: May 21, 2001.
Robert Batky,
Acting Assistant Director—Fisheries and Habitat Conservation.

[FR Doc. 01-13591 Filed 5-30-01; 8:45 am]

BILLING CODE 4310-55-M